DEPARTMENT OF HOMELAND SECURITY

[Docket No. DHS-2009-0008]

The National Infrastructure Advisory Council

AGENCY: Directorate for National Protection and Programs, Department of Homeland Security.

ACTION: Committee Management; Notice of Federal Advisory Council Meeting.

SUMMARY: The National Infrastructure Advisory Council (NIAC) will meet on Tuesday, April 14, 2009 at the J.W. Marriott's Salons I and II, 1331 Pennsylvania Avenue, Washington, DC 20004.

DATES: The National Infrastructure Advisory Council will meet Tuesday, April 14, 2009 from 1:30 p.m. to 4:30 p.m. Please note that the meeting may close early if the committee has completed its business.

For additional information, please consult the NIAC Web site, http://www.dhs.gov/niac, or contact Matthew Sickbert by phone at 703-235-2888 or by e-mail at Matthew.Sickbert@associates.dhs.gov.

ADDRESSES: The meeting will be held at the J.W. Marriott's Salons I and II, 1331 Pennsylvania Avenue, Washington, DC 20004. While we will be unable to accommodate oral comments from the public, written comments may be sent to Nancy J. Wong, Department of Homeland Security, Directorate for National Protection and Programs, Washington, DC 20528. Written comments should reach the contact person listed no later than April 7, 2009. Comments must be identified by DHS-2009-0008 and may be submitted by one of the following methods:

• Federal eRulemaking Portal: http://www.regulations.gov. Follow the instructions for submitting comments.

• E-mail: matthew.sickbert@associates.dhs.gov. Include the docket number in the subject line of the message.

• Fax: 703-235-3055.

• Mail: Nancy J. Wong, Department of Homeland Security, Directorate for National Protection and Programs, Washington, DC 20528.

Instructions: All submissions received must include the words “Department of Homeland Security” and the docket number for this action. Comments received will be posted without alteration at http://www.regulations.gov, including any personal information provided.

Docket: For access to the docket to read background documents or comments received by the National Infrastructure Advisory Council, go to http://www.regulations.gov.

FOR FURTHER INFORMATION CONTACT: Nancy J. Wong, NIAC Designated Federal Officer, Department of Homeland Security, Washington, DC 20528; telephone 703-235-2888.

SUPPLEMENTARY INFORMATION: Notice of this meeting is given under the Federal Advisory Committee Act, 5 U.S.C. App. (Pub. L. 92-463). The National Infrastructure Advisory Council shall provide the President through the Secretary of Homeland Security with advice on the security of the critical infrastructure sectors and their information systems.

The National Infrastructure Advisory Council will meet to address issues relevant to the protection of critical infrastructure as directed by the President. The April 14, 2009 meeting will include a final report from the Frameworks for Dealing with Disasters and Related Interdependencies Working Group and status reports from the Critical Infrastructure Resilience Working Group.

The meeting agenda is as follows:

I. Opening of Meeting | Nancy J. Wong, Designated Federal Officer (DFO), NIAC, Department of Homeland Security (DHS).
II. Roll Call of Members | Nancy J. Wong, DFO, NIAC, DHS.
III. Opening Remarks and Introductions | NIAC Chairman Erle A. Nye, Chairman Emeritus, TXU Corp.
Participating but not Expected to Make Remarks | Janet Napolitano, Secretary, DHS (invited).
| James L. Snyder, Acting Assistant Secretary for Infrastructure Protection, DHS (invited).
| Jason Brown, Senior Director for Cyber Security and Information Sharing, Homeland Security Council (invited).
IV. Approval of January 2009 Minutes | NIAC Chairman Erle A. Nye, Presiding.
V. Working Group Final Presentation | NIAC Chairman Erle A. Nye, Presiding.
A. The Frameworks for Dealing with Disasters and Related Interdependencies Working Group | Edmund G. Archuleta, President and CEO, El Paso Water Utilities, NIAC Member; James B. Nicholson, Chairman and CEO, PVS Chemicals, Inc., NIAC Member; and The Honorable Tim Pawlenty, Governor, The State of Minnesota, NIAC Member.
VI. Working Group Status Update | NIAC Chairman Erle A. Nye, Presiding.
A. The Critical Infrastructure Resilience Working Group | Wesley Bush, President and COO, Northrop Grumman, NIAC Member; and Margaret E. Grayson, (former) President, Coalescent Technologies, Inc., NIAC Member.
VII. New Business | NIAC Chairman Erle A. Nye, Vice Chairman; Alfred R. Berkeley III, NIAC Members.
VIII. Closing Remarks | James L. Snyder, Acting Assistant Secretary for Infrastructure Protection, DHS (invited).
IX. Adjournment | NIAC Chairman Erle A. Nye, Presiding.

Procedural

While this meeting is open to the public, participation in The National Infrastructure Advisory Council deliberations is limited to committee members, Department of Homeland Security officials, and persons invited to attend the meeting for special presentations.

Information on Services for Individuals With Disabilities

For information on facilities or services for individuals with disabilities or to request special assistance at the meeting, contact the NIAC Secretariat at 703-235-2888 as soon as possible.

Dated: February 3, 2009.
Nancy J. Wong,
Designated Federal Officer for the NIAC.

[FR Doc. E9-3180 Filed 2-13-09; 8:45 am]

BILLING CODE 4410-10-P